DEPARTMENT OF HOUSING AND URBAN DEVELOPMENT

[Docket No. FR-4547-N-01]

Notice of Funding Availability for the HUD Rural Housing and Economic Development Program for Fiscal Year 2000

AGENCY: Office of the Assistant Secretary for Community Planning and Development, HUD.

ACTION: Notice of funding availability (NOFA).

SUMMARY: Purpose of Program: The purpose of the Rural Housing and Economic Development program is to build capacity at the State and local level for rural housing and economic development and to support innovative housing and economic development activities in rural areas. The funds made available under this program will be awarded competitively, through a selection process conducted by HUD in consultation with the United States Department of Agriculture (USDA).

Available Funds: Approximately $24.75 million in Fiscal Year (FY) 2000 funding.

Eligible Applicants: Local rural non-profit organizations, community development corporations, Indian tribes, State housing finance agencies, and State economic development or community development agencies.

Application Deadline: April 7, 2000.

Match: None.

SUPPLEMENTARY INFORMATION: If you are interested in applying for funding under this program, please review carefully the following information:

I. Application Due Date and Technical Assistance

Application Due Date: Completed applications (one original and two copies) must be submitted on or before 12:00 midnight, Eastern time, on April 7, 2000 to the address shown below.

Address for Submitting Applications: Completed applications (one original and two copies) must be submitted to: Processing and Control Unit, Room 7255, Office of Community Planning and Development, Department of Housing and Urban Development, 451 Seventh Street, SW, Washington, DC 20410; ATTN: Rural Housing and Economic Development program. When submitting your application, please include your name, mailing address (including zip code) and telephone number (including area code).

(1) Mailed Applications. Your applications will be considered timely filed if postmarked on or before 12:00 midnight (Eastern time) on the application due date and received at the address above on or within five (5) calendar days of the application due date.

(2) Applications Sent by Overnight/Express Mail Delivery. Applications sent by overnight delivery or express mail will be considered timely filed if received before or on the application due date, or upon submission of documentary evidence that they were placed in transit with the overnight delivery service by no later than the specified application due date.

(3) Hand Carried Applications. Hand carried applications delivered before and on the application due date must be brought to the specified location at HUD Headquarters and room number between the hours of 8:45 am to 5:15 pm, Eastern time. Applications hand carried on the application due date will be accepted in the South Lobby of the HUD Headquarters Building at the above address from 5:15 pm until 12:00 midnight, Eastern time of the due date. This deadline date is firm. Please make appropriate arrangements to arrive at the HUD Headquarters Building before 12:00 midnight on the application due date.

For Further Information and Technical Assistance. All information and materials required to submit an application for funding under the HUD Rural Housing and Economic Development program are included in the Appendix to this NOFA.

For information concerning the HUD Rural Housing and Economic Development program, contact Jackie Mitchell, Office of Community Planning and Development, Department of Housing and Urban Development, 451 7th Street, SW, Room 7134, Washington, DC 20410; telephone (202) 708-2290 (this is not a toll-free number). Persons with speech or hearing impairments may access this number via TTY by calling the toll-free Federal Information Relay Service at 1-800-877-8339.

Prior to the application deadline, HUD at the numbers above will be available to provide general guidance, but not guidance in actually preparing the application. Following selection, but prior to award, HUD staff will be available to assist in clarifying or confirming information that is a prerequisite to the offer of an award by HUD.

II. Amount Allocated

(A) Available Funds

Approximately $24.75 million in Fiscal Year (FY) 2000 funding is being made available through this NOFA for the Rural Housing and Economic Development program. The breakdown for this funding is discussed below.

(B) The FY 2000 HUD Appropriations Act

The Departments of Veterans Affairs and Housing and Urban Development, and Independent Agencies Appropriations Act, 2000 (Pub.L. 106-74, approved October 20, 1999) (the “FY 2000 HUD Appropriations Act”) made $25 million in FY 2000 funds available under the Rural Housing and Economic Development program.

(C) Funding Categories/Expected Average Award Amounts

HUD will award up to $24.75 million on a competitive basis in the following funding categories. HUD reserves the right to modify the size of a grant award to meet the objectives of the Rural Housing and Economic Development program.

(1) Capacity Building. HUD will award up to $2.75 million to build capacity at the State, tribal, and local level for rural housing and economic development. This amount will go directly to local rural nonprofits, community development corporations (CDCs) and Indian tribes to support capacity building and technical assistance. HUD expects the average award amount under this funding category to be $150,000.

(2) Support for Innovative Activities. HUD will award up to $19 million to Indian tribes, State Housing Finance Agencies (HFA)s, state community and/or economic development agencies, local rural non-profits and CDCs to support innovative housing and economic development activities in rural areas. HUD expects the average award amount under this funding category to be $500,000.

(3) Seed Support. HUD will award up to $3 million in seed support for Indian tribes, local rural non-profits and CDCs that are located in areas that have limited development capacity to create or support innovative rural housing and economic development activities. HUD expects the average award amount under this funding category to be $200,000.

(4) Innovative Strategies Clearinghouse. In addition to the three funding categories described above, $0.25 million will be used to maintain a clearinghouse of ideas for innovative strategies for rural housing and economic development and revitalization.

III. Program Description; Eligible Applicants; Eligible Activities

(A) Program Description

(1) Background. There is a great need for expanding the supply of housing in rural America, particularly affordable housing for low income families and individuals. There are a number of rural areas which have experienced rapid in-migration as a result of a growth in employment opportunities, but which have a shortage of affordable housing. In addition, because of out-migration from rural areas, and other factors causing economic dislocation, many rural areas suffer from severe economic distress. There has been a growing national recognition of the need to enhance the capacity of local and State governments, Indian tribes, local rural nonprofits, and CDCs to expand the supply of affordable housing and to engage in economic development activities in rural areas.

A number of resources are available from the Federal government to address these problems, including programs of the United States Department of Agriculture (USDA), the Economic Development Administration (EDA), the Appalachian Regional Commission (ARC), the Department of Interior (for Indian Tribes) and HUD. The Rural Housing and Economic Development program has been developed to supplement these resources and to focus specifically on capacity building and innovative approaches to both housing and economic development in rural areas. In administering these funds, HUD will encourage coordination between all Federal agencies in support of the program objectives.

(2) Definitions

Areas that have limited capacity for the development of rural housing and economic development means areas in which very few or no institutions or organizations exist which have the capacity to develop housing or economic development activities of the sort proposed in the application.

Appalachia's Distressed Counties means those counties in Appalachia that the Appalachian Regional Commission (ARC) has determined to have unemployment and poverty rates that are 150 percent of the respective U.S. rates and per capita income that is less than 67 percent of the U.S. per capita income and counties with 200 percent of the U.S. poverty rate and one other indicator. Appendix A to this notice identifies the ARC's list of distressed counties.

Colonia means any identifiable community that:

(i) Is located in the State of Arizona, California, New Mexico, or Texas;

(ii) Is located in the U.S.-Mexico border region (that is, within 150 miles of the border between the U.S. and Mexico);

(iii) Meets objective criteria, including lack of potable water supply, lack of adequate sewage systems, and lack of decent, safe, sanitary, and accessible housing.

Although section 916(e)(4) of the Cranston-Gonzalez National Affordable Housing Act (42 U.S.C. 5306(e)(4)) included the notation that a colonia must have been in existence and generally recognized as such prior to its enactment, HUD recognizes that additional identifiable colonias have come into existence, in the near-decade since the enactment, and are in need of assistance to the same extent as older colonias.

Farmworker means a farm employee of an owner, tenant, labor contractor, or other operator raising or harvesting agricultural or aquacultural commodities; or a worker in the employ of a farm operator, handling planting, drying, packing, grading, storing, delivering to storage or market, or carrying to market agricultural or aquacultural commodities produced by the operator. Seasonal farmworkers are those farm employees who typically do not have a constant year round salary. Migrant farmworkers are those farm employees whose work requires travel that prevents the employee from returning to his or her permanent place of residence within the same day.

Firm commitment means the agreement by which an applicant's partner agrees to perform an activity specified in the application and demonstrates the financial capacity to deliver the resources necessary to carry out the activity, and commits the resources to the activity. Although a firm commitment need not be legally binding, or enforceable, at the time the grant is awarded, it must be legally binding before grant funds may be expended. In documenting a firm commitment, the applicant's partner must:

(i) Specify the authority by which the commitment is made, the amount of the commitment and the use of funds. If the committed activity is to be self-financed, the applicant's partner must evidence its financial capability through a corporate or personal financial statement or other appropriate means. If any portion of it is to be financed through a lending institution, the participant must evidence the institution's commitment to fund the loan;

(ii) State the amount and use of the grant, and the relationship of the grant to the proposed investment; and

(iii) Affirm that its investment is contingent upon receipt of the total grant or other public money (or a specified portion thereof), and state a willingness on the part of the signatory to sign a legally binding commitment (conditioned on HUD environmental review and approval of a property, where applicable) upon award of the grant.

Indian tribe means any entity eligible to apply for funding under the Indian Community Development Block Grant (ICDBG) program (see 24 CFR 1003.5(a)).

Innovative housing and economic development activities means projects, techniques, methods, combinations of assistance, construction materials, and financing institutions or sources new to the eligible area, or its population. The innovative activities can also build upon and enhance a model that already exists.

Local rural non-profit or community development corporation means either:

(i) Any private entity with tax exempt status recognized by the Internal Revenue Service (IRS) which serves the eligible rural area involved in the application (including local affiliates of national organizations that provide technical and capacity building assistance in rural areas); or

(ii) Any public non-profit such as a Council of Governments that will serve local non-profit organizations in the eligible area.

Lower Mississippi Delta Region means the seven state, 219 county/parish region defined by Congress in the Lower Mississippi Delta Development Act, P.L. 100-460. Appendix B to this notice identifies the list of the counties referenced in the Act.

Rural area may be defined in one of five ways:

(i) A place having fewer than 2,500 inhabitants (within or outside of metropolitan areas).

(ii) A county with no urban population (i.e., city) of 20,000 inhabitants or more.

(iii) Territory, persons, and housing units in the rural portions of “extended cities.” The U.S. Census Bureau identifies the rural portions of extended cities in the United States.

(iv) Open country which is not part of or associated with an urban area. The United States Department of Agriculture (USDA) determines what constitutes “open country.”

(v) Any place with a population not in excess of 20,000 and is not located in a Metropolitan Statistical Area.

State economic development or community development agency means any state agency which has promotion of statewide or local community/economic development as its primary purpose.

State Housing Finance Agency means any state agency created to assist local communities and housing providers with financing assistance for development of housing in rural areas, particularly for low and moderate income people.

(3) Eligible applicants. Eligible applicants for each of the funding categories are as follows:

(a) For capacity building funding. If you are a local rural non-profit, CDC, or Indian tribe, you are eligible for capacity building assistance. If you are a local rural nonprofit/CDC applying for capacity building funds (and are not a local affiliate of a national organization), you must either:

(i) Have any experience in providing technical assistance and capacity building assistance in rural areas; or

(ii) Partner with another organization that has any such experience.

(b) For support for innovative activities funding. If you are a local rural non-profit, CDC, Indian tribe, State HFA, or State economic development or community development agency, you may apply for funding to support innovative housing or economic development activities in rural areas.

(c) For seed support funding. If you are a local rural non-profit, CDC, or Indian tribe, you may apply for seed support funding.

(4) Eligible activities. The following are examples of eligible activities under the Rural Housing and Economic Development program. The examples are illustrative and are not meant to limit the activities that you may propose in your application. Any activity that meets the objective of the Rural Housing and Economic Development program will be considered eligible.

(a) For capacity building funding. Capacity building for rural housing and economic development involves the enhancement of existing organizations to carry out new functions and/or perform more effectively existing functions.

Activities in connection with strengthening existing organizations include hiring qualified staff, supporting and training existing staff, providing software and other tools to provide networking and research capability, and obtaining expertise from outside sources. They also include hiring staff and training to improve management capability, including development of accounting systems, MIS support and related activities. Eligible activities also include arranging for technical assistance to conduct need assessments, conduct asset inventories, develop strategic plans. These activities also include the promotion of fair housing by training local organizations and residents in fair housing issues, and by helping them to file fair housing complaints with HUD, when warranted.

(b) For support of innovative rural housing and economic development funding. (i) This category is intended to support, but not be limited to, “hard costs” for both housing and economic development. Eligible activities include preparation of plans, architectural and engineering drawings and reports, financial assistance for acquisition of land and buildings, demolition, provision of infrastructure, purchase of materials, construction costs, the use of local labor markets, and construction training.

(ii) With regards to housing, eligible activities include homeownership counseling, application of innovative construction methods encouraging building design which reflects terrain, weather, and availability of indigenous materials. Building design is subject to the requirements of the Americans with Disabilities Act and section 504 of the Rehabilitation Act of 1973. HUD strongly recommends that all housing designs be made “visitable.”

(iii) For both housing and economic development, eligible activities include establishing CDFIs, lines of credit, revolving loan funds, microenterprises, small business incubators, provision of direct financial assistance to homeowners/businesses/developers, etc. This can be in the form of establishing default reserves, pooling/securitization mechanisms, loans, grants, etc.

(c) For seed support funding. This category is intended to provide funds for start up costs for creating or supporting innovative housing and economic development to be undertaken by new organizations/institutions, or for specific innovative housing or economic development projects new to the eligible area or new to the organization, that will support innovative housing and economic development activities. For organizations, this could include “up front” money for acquiring space and support facilities, as well as hiring and training staff, purchasing software and other networking tools, developing an accounting system, and seeking technical assistance. For both housing and economic development projects, eligible activities include purchase of land, options, purchase of inventory and other business “start up” costs as well as all other types of administrative expenses cited in 24 CFR 570.206(g) of the Community Development Block Grant entitlement regulations.

IV. Program Requirements

(A) Statutory Requirements

To be eligible for funding under this NOFA, you, the applicant, must meet all applicable statutory and regulatory requirements. If you need copies of the HUD regulations referenced in this NOFA, they are available at the HUD web site located at http://www.HUD.gov. HUD may reject an application from further funding consideration if the activities or projects proposed in the application are not eligible, or HUD may eliminate the ineligible activities from funding consideration and reduce the grant amount accordingly.

(B) Threshold Requirements—Compliance With Fair Housing and Civil Rights Laws

With the exception of Federally recognized Indian tribes, all applicants and their subrecipients must comply with all Fair Housing and civil rights laws, statutes, regulations and executive orders as enumerated in 24 CFR 5.105(a). If you are a Federally recognized Indian tribe, you must comply with the Age Discrimination Act of 1975, section 504 of the Rehabilitation Act of 1973, and the Indian Civil Rights Act.

If you, the applicant, or any of your partners or affiliates—

(1) Have been charged with a systemic violation of the Fair Housing Act by the Secretary alleging ongoing discrimination;

(2) Are a defendant in a Fair Housing Act lawsuit filed by the Department of Justice alleging an ongoing pattern or practice of discrimination; or

(3) Have received a letter of noncompliance findings under Title VI, Section 504 of the Rehabilitation Act of 1973, or Section 109 of the Housing and Community Development Act of 1974—

HUD will not rank and rate your application under this NOFA if the charge, lawsuit, or letter of findings has not been resolved to the satisfaction of the Department before the application deadline stated in this NOFA. HUD's decision regarding whether a charge, lawsuit, or a letter of findings has been satisfactorily resolved will be based upon whether appropriate actions have been taken to address allegations of ongoing discrimination in the policies or practices involved in the charge, lawsuit, or letter of findings.

(C) Additional Nondiscrimination Requirements

You, the applicant, must comply with the Americans with Disabilities Act, and Title IX of the Education Amendments Act of 1972.

(D) Affirmatively Furthering Fair Housing

With the exception of Indian tribes, if you are a successful applicant, you will have a duty to affirmatively further fair housing. You, the applicant, should include in your work plan the specific steps that you will take to promote and ensure fair housing rights and fair housing choice.

(E) Economic Opportunities for Low and Very Low-Income Persons (Section 3)

You must comply with section 3 of the Housing and Urban Development Act of 1968, 12 U.S.C. 1701u (Economic Opportunities for Low and Very Low-Income Persons) and the HUD regulations at 24 CFR part 135, including the reporting requirements in subpart E, if:

(1) The amount of your grant exceeds $200,000; and

(2) Your funded project involves the construction, reconstruction, conversion or rehabilitation of housing (including the reduction and abatement of lead-based paint hazards), or other public construction which involves buildings and improvements (regardless of ownership).

Section 3 requires recipients to ensure that, to the greatest extent feasible, training, employment and other economic opportunities will be directed to low and very low income persons, particularly those who are recipients of government assistance for housing; and business concerns which provide economic opportunities to low and very low income persons.

(F) Relocation

Any person (including individuals, partnerships, farms, corporations or associations) who moves from real property or moves personal property from real property directly (1) because of a written notice to acquire real property in whole or in part, or (2) because of the acquisition of the real property, in whole or in part, for a HUD-assisted activity is covered by the Federal relocation statute and regulations. Specifically, this type of move is covered by the acquisition policies and procedures and the relocation requirements of the Uniform Relocation Assistance and Real Property Acquisition Policies Act of 1970, as amended (URA), and the implementing government-wide regulation at 49 CFR part 24. The relocation requirements of the URA and the government-wide regulations also cover any person who moves permanently from real property or moves personal property from real property directly because of rehabilitation or demolition for an activity undertaken with HUD assistance.

(G) Forms, Certifications and Assurances

You, the applicant, are required to submit signed copies of the standard forms, certifications, and assurances included in the Appendix to this NOFA signed by the managing officer of your organization.

(H) OMB Circulars

The policies, guidance, and requirements of OMB Circular No. A-87 (Cost Principles Applicable to Grants, Contracts and Other Agreements with State and Local Governments), OMB Circular No. A-122 (Cost Principles for Nonprofit Organizations), OMB Circular No. A-133 (Audits of States, Local Governments, and Non-Profit Organizations), 24 CFR part 84 (Grants and Agreements with Institutions of Higher Education, Hospitals, and other Non-Profit Organizations) and 24 CFR part 85 (Administrative Requirements for Grants and Cooperative Agreements to State, Local, and Federally recognized Indian tribal governments) apply to the award, acceptance and use of assistance under the Rural Housing and Economic Development program NOFA, and to the remedies for noncompliance, except when inconsistent with the provisions of the FY 2000 HUD Appropriations Act, other Federal statutes or the provisions of this NOFA. Copies of the OMB Circulars may be obtained from EOP Publications, Room 2200, New Executive Office Building, Washington, DC 10503, telephone (202) 395-7332 (this is not a toll free number).

(I) Environmental Review

Selection for award does not constitute approval of any proposed sites. Following selection for award, HUD will perform an environmental review of activities proposed for assistance under this part, in accordance with 24 CFR part 50. The results of the environmental review may require that proposed activities be modified or that proposed sites be rejected. Applicants are particularly cautioned not to undertake or commit funds for acquisition or development of proposed properties (including establishing lines of credit that permit financing of such activities or making commitments for loans that would finance such activities from a revolving loan fund capitalized from funds under this NOFA) prior to HUD approval of specific properties or areas. Each application shall contain an assurance that you, the applicant, will assist HUD to comply with part 50; will supply HUD with all available, relevant information to perform an environmental review for each proposed property; will carry out mitigating measures required by HUD or select alternate property; and will not acquire, rehabilitate, convert, lease, repair or construct property, not commit or expend HUD or local funds for these program activities with respect to any eligible property, until HUD approval of the property is received. In supplying HUD with environmental information, grantees are to use the same guidance as provided in the HUD Handbook entitled “Field Environmental Review Processing for HUD Colonias Initiative (HCI) grants” issued January 27, 1998.

(J) Grant Amounts

In the event you, the applicant, are awarded a grant that has been reduced (e.g. the application contained some activities that were ineligible or budget information did not support the request), you will be required to modify your project plans and application to conform to the terms of HUD's approval before execution of a grant agreement. HUD reserves the right to reduce or de-obligate the award if approvable modifications to the proposed project are not submitted by the awardee in the required amounts in a timely manner. Any modifications must be within the scope of the original application. HUD reserves the right not to make awards under this NOFA.

(K) Grant Period

Recipients will have 36 months from the date of funding to complete all project activities except the final evaluation and reporting, fulfillment and audit requirements and final project close-out.

(L) Negotiations

After all applications have been rated and ranked and a selection has been made, HUD may require that grantees participate in negotiations to determine the specific tasks and grant budget. Where a specific area or one or more specific sites for project activities are identified in an application or during negotiations, HUD may undertake and complete its environmental review during negotiations. In cases where HUD cannot successfully conclude negotiations or a selected applicant fails to provide HUD with requested information, or if the reduced amount of funding makes the project infeasible, awards will not be made. In such instances, HUD will offer an award to the next highest ranking applicant and proceed with negotiations with that next highest ranking applicant.

(M) Adjustments to Funding

(1) HUD reserves the right to fund less than the full amount requested in your application to ensure the purpose of the program is met. HUD may not fund portions of the applications that are ineligible for funding under applicable program statutory or regulatory requirements, or which do not meet the requirements of this NOFA, but may fund eligible portions of the applications.

(2) If funds remain after funding the highest ranking applications in each funding category, HUD may fund part of the next highest ranking application in the same category (i.e., capacity-building). If the applicant turns down the award offer, or if the project is not feasible at the proposed funding level, HUD will make the same determination for the next highest ranking applications in each category.

(3) HUD reserves the right to reallocate funds between categories to achieve the maximum allocation of funds in all categories.

(N) All Property Assisted Under the Rural Housing and Economic Development Program is Covered by the Lead-Based paint Poisoning Prevention Act (42 U.S.C. 4821-4846) and HUD's Implementing Regulations at 24 CFR Part 35.

V. Application Selection Process

(A) Rating and Ranking

(1) General. To review and rate applications, HUD may establish panels including outside experts or consultants to obtain certain expertise and outside points of view, including views from other Federal agencies. A total of 100 points is possible.

(2) Rating. All applicants for funding will be evaluated against the criteria below.

(3) Ranking. Applicants will be ranked separately within each of the three funding categories. Applicants will be selected for funding in accordance with their rank order in each category. If two or more applications are rated fundable and have the same score, but there are insufficient funds to fund all of them, the application(s) with the highest score for Rating Factor 3 (Soundness of Approach) shall be selected. If applications still have the same score, the highest score in the following factors will be selected sequentially until one highest score can be determined: Rating Factor 4 (leveraging of resources), Rating Factor 1 (capacity and experience) Rating Factor 2 (Need).

(B) Initial Screening

During the period immediately following the application deadline, HUD will screen each application to determine eligibility. Applications will be rejected if they:

(1) Are submitted by ineligible applicants (including applicants that do not meet the fair housing and civil rights threshold requirement described in section IV(B) of this NOFA);

(2) Do not serve an eligible rural area; or

(3) Propose a program for which significant activities are ineligible.

HUD will notify you if your application failed to pass the initial screening review.

(C) Rating Factors for Award

Rating Factor 1—Capacity of the Applicant and Relevant Organizational Experience (up to 25 Points)

This rating factor addresses the qualifications and experience of the applicant and participating parties to carry out the objectives of the proposed activities within a reasonable time period. HUD will review and evaluate the information provided documenting capacity.

(a) Rating standard applicable to all funding categories. For all three funding categories, you must submit evidence of the experience of you and your partners (if any) in leveraging other Federal, local, State and private sector funds.

(b) Rating standards applicable to individual funding categories. The three funding categories have different objectives. Accordingly, in addition to the generally applicable rating standard discussed above, different standards will be used to judge the experience and qualifications of the applicants and any partners for each of the three funding categories.

(i) Capacity Building. (1) HUD will consider the experience of you and your partners (if any) in housing or economic development programs and the competencies of your core staff to effectively utilize the funds which are being proposed for capacity building. You must demonstrate experience, including number of units built or economic development activities accomplished. You must describe your basic organization, management structure, and include evidence of internal and external coordination and an adequate accounting system.

(ii) Support for Innovative Rural Housing and Economic Development Activities. HUD will consider the demonstrated experience of you and your partners (if any) in carrying out the type of housing or economic development project or activity for which funding is being sought and the competencies of your staff who will be responsible for carrying it out. Since these funds are for implementation, not capacity building, you must describe the experience, including past achievements, that you and your partners (if any) have in conducting the specific type of activities for which funding is requested. You must also describe the competencies of your core staff to carry out the proposed activities for which you are requesting funding. You must also submit evidence of the experience of you and your partners (if any) in leveraging other Federal, local, State and private sector funds.

(iii) Seed support. HUD will consider the demonstrated experience of you and your partners (if any) in carrying out the specific type of innovative program or activity for which the seed support is being requested. You must describe the experience that you and your partners (if any) have in conducting the types of activities for which you are seeking funding, including the competencies of core staff. You must also submit evidence of the experience of you and your partners (if any) in leveraging other Federal, local, State and private sector funds.

Rating Factor 2—Need and Extent of the Problem (up to 25 Points)

The Rural Housing and Economic Development program has been designed to address the problems of rural poverty, inadequate housing and lack of economic opportunity. Need will be addressed in two ways—documentation of the demographics of economic distress (including the special factors discussed below); and demonstrated need for the specific activity or project, including needs identifies in the State's Consolidated Plan and/or an Analysis of Impediments to Fair Housing Choice (AI).

(a) Demographics of Economic Distress (up to 10 Points) You must provide data documenting economic distress. These data may include poverty rates, unemployment data, out-migration information and other statistics including health problem, crime rates, drug use, wage levels, high school dropout rates, literacy rates, incidence of homelessness, and rates/number of people on public assistance. Because of distances between population centers and low population densities in rural areas, considerable latitude will be allowed in establishing the most appropriate area to which the data apply. If housing shortages in an area are being caused by rapid in-migration, provide information regarding number of new residents and their housing needs. In addition to the data for the area itself, comparative statistics must be provided for the region or State which will document the high level of distress in the area to be served. Data must be from an official—government or non-government source—such as the most current census, labor statistics, the State's most recent Consolidated Plan for the area submitted to HUD, or state or county agency, university or national non-or for-profit organization reports or studies.

(b) Demographics of Economic Distress—Special Factors (5 Points). Because of the concern of the Department with meeting the needs of certain underserved areas, you will be awarded a total of five points if you are located in or propose to serve one or more of the following populations and specifically identify how they will be served, provided that the proposed service area meets the definition of “eligible rural area” as described in Section III (A)(2) of this NOFA:

(i) Areas with very small populations in non-urban areas (2,500 population or less);

(ii) Migrant and seasonal farmworkers;

(iii) Indian Tribes;

(iv) Colonias;

(v) Appalachia's Distressed Counties; or (vi) the Lower Mississippi Delta Region.

(c) Demonstrated Need (up to 10 points).

(i) For capacity building. You must document the need for improvement of existing organizations.

(ii) For support for Innovative Rural Housing and Economic Development Activities. (1) General. HUD will evaluate the importance of the project to the community and the projected outcomes. For both housing and economic development projects, you must describe the importance of the activities to be funded by the grant to the total project. HUD will also consider the degree to which the need for the project or activity has been reflected in the planning processes of the community.

(2) For economic development proposals, you must describe the number of jobs or new businesses to be created, provisions for job or business training or financing and linkage to jobs for area residents and the potential for attracting or creating new industry niches, and the extent to which it will build wealth in the community.

(3) For housing projects, HUD will evaluate the extent to which the proposed housing satisfies an unmet need. You must provide data which documents the need for increasing the supply of affordable housing in the areas in which housing is to be provided. You must address the issues of the affordability of housing and the cost of housing, as well as the availability of financing. You must use census tracts, political boundaries, neighborhood designations or other delineations to define the area to be served. You must state the source of the information provided. You must provide information on:

(A) Vacancy rates;

(B) Substandard housing;

(C) Shortage of affordable housing (if the shortage of housing has been caused by recent in-migration, provide statistics regarding the number of new residents and describe the problem which this has caused); and

(D) Rent burden.

(iii) For Seed Support. HUD will evaluate the relative importance of the seed support which is being sought to the viability of the innovative project or activity. You must describe the importance of the seed money to be provided to the total project, showing that the area is lacking the type of innovative project or activity being proposed, or that the need your proposal will fill that is not presently being filled.

Rating Factor 3—Soundness of Approach (up to 30 Points)

This factor addresses the quality, comprehensiveness, and anticipated effectiveness of the proposed program in meeting the needs you have identified in Rating Factor 2, including those that had been previously identified in a statewide Analysis of Impediments to Fair Housing (AI) or Consolidated Plan. The populations which were described in demographics that documented need should be the same populations which will receive the primary benefit of the activities. HUD will be evaluating your Statement of Work based on your description of, and estimated schedule for, proposed activities, your management plan and method for assuring effective and timely completion of all work, your projected outcomes, evidence of coordination and cost efficiency, your budget and cost estimates, and your self-monitoring and program evaluation process. HUD is interested in quickly creating housing and economic development opportunities in rural areas. HUD will consider:

(a) Description of and Rationale for Proposed Activities

The extent to which your proposed program meets the purposes of this NOFA and the needs outlined under Rating Factor 2 of your application. You must describe the proposed activities in detail and indicate why you believe the proposed activities will be most effective in addressing the identified need. If you are proposing new methods for which there is limited knowledge of the effectiveness, you must provide the basis for modifying past practices, and your rationale for why the modified approach will yield more effective results.

(b) Management Plan and Method

The extent to which your management plan identifies the specific actions that you and your partners will take to complete your proposed activities on time and within budget. Your management plan must include a description of the management structure for the program and a schedule outlining the estimated completion of all tasks associated with the proposed program. If your proposed activities will quickly produce demonstrable results and advance the purposes of the Rural Housing and Economic Development program, you will receive a higher score.

(c) Expected Outcomes

The extent to which your proposed program is likely to achieve desirable outcomes. You must provide a qualitative and/or quantitative description of estimated outcomes as appropriate. The type and level of estimated outcomes will be highly dependent on the nature of your proposed program. Outcomes may be described using statistics such as the estimated number of new units constructed, new businesses created, jobs created/retained, loans financed, staff members hired, or individuals assisted through counseling or training programs. Outcomes that do not lend themselves to numerical interpretation, such as the extent to which you anticipate your organization to be strengthened as a result of capacity building funding, should be described in narrative terms. The level of project funding, availability of outside resources, complexity of proposed activities, and size of your organization will be taken into account when evaluating the projected outcomes.

(d) Coordination and Cost-Efficiency

The extent to which the proposed program uses available local resources to increase coordination and cost-effectiveness. You must describe your use of, and coordination with other resources, programs, services, and facilities. HUD recognizes that the opportunity for increased cost-effectiveness through coordination varies greatly between communities. An applicant will not be penalized for lack of coordination when the application clearly indicates a lack of available resources and services.

(e) Budget and Cost Estimates

The quality, thoroughness, and reasonableness of the proposed project budget. Cost estimates must be broken down by line item for each proposed activity and documented by outside sources when appropriate.

(f) Program Evaluation

The description of a comprehensive plan for monitoring the program and evaluating programmatic success. Your program evaluation plan must include a method for measuring the actual project outcomes and the attainment of program goals.

(g) The extent to which any housing constructed as a result of this funding benefits all segments of the population, including but not limited to accessibility and visibility for persons with disabilities, large families, and senior citizens.

(h) Because HUD fully supports the expansion of lending opportunities to disadvantaged areas of rural America, HUD will award up to 5 points to those applicants that—either individually or through coalitions of organizations—propose, as an innovative housing and/or economic development activity, to structure and carry out diversified financial leveraging linkages that secure a pool of much larger funds from other funding sources, e.g., private institutions and foundations. The linkages should be designed to mitigate and reduce the risk to traditional lending institutions of lending in rural communities. Funds requested from HUD can be used to: Establish a loan loss reserve; provide gap financing, loan servicing, homeownership assistance, or business loans for firms; serve as a financial intermediary, etc. In awarding these points, HUD will consider the level of existing leveraging relations with private institutions, foundations, and other entities; and the proposed use of the leveraging funds. This criterion is applicable only to funding for support of innovative rural housing and economic development activities.

Rating Factor 4—Leveraging Resources (up to 10 Points)

HUD will evaluate the extent to which applicants for any of the three funding categories have obtained firm commitments of financial or in kind resources from other Federal, State, local, and private sources. In assigning points for this criterion, HUD will consider the level of outside resources obtained for cash or in kind services that support activities proposed in your application. This criterion is applicable to all three funding categories under this NOFA. The level of outside resources for which commitments are obtained will be evaluated based on their importance to the total program.

Rating Factor 5—Comprehensiveness and Coordination (10 Points)

This factor addresses the extent to which your proposed program is coordinated with other ongoing and related activities in the area you propose to serve. The purpose of this factor is to ensure that whenever possible, activities are not operated in isolation, but rather are linked with related activities and organizations to improve the overall effectiveness of all efforts being undertaken as part of your total effort. In evaluating this factor, HUD will consider the extent to which you have coordinated your activities with other known organizations, participate or promote participation in the state's Consolidated Planning process and/or a statewide Analysis of Impediments to Fair Housing Choice, and have addressed your described need in a holistic and comprehensive manner through linkages with other activities in the area or approved plans and programs funded by state or local governments.

In evaluating this factor, HUD will consider the extent to which you demonstrate that you have:

(a) Coordinated your proposed plan of activities with those of other groups or organizations in order to best complement and mutually support others' ongoing efforts or programs;

(b) Identified specific actions that have been taken or will be taken to coordinate comprehensive solutions through meetings, information networks, planning processes and other mechanisms with:

(i) Other HUD funded projects/activities; and

(ii) Other Federal, State or locally funded activities, including those proposed or ongoing in the area.

EZ/EC Bonus Points (2 points).

HUD will award two bonus points to all applications that include documentation stating that the proposed eligible activities/projects will be located in and serve Federally designated Rural Empowerment Zones or Enterprise Communities (Rural EZs/ECs). A listing of Federally designated Rural EZs and ECs are available on the Internet at http://www.ezec.gov.

VI. Application Submission Requirements

You must submit a separate application for each funding category you are applying for under this NOFA. The portion of your application consisting of your Statement of Work (see below) must be no more than 25 pages, and must be submitted on 8.5″ by 11″ paper, with lines double spaced and printed only one side. All pages of the application shall be numbered sequentially. Your application must include the following:

(A) Statement of Work. You must submit a Statement of Work which addresses the rating factors discussed in Section V(C) of this NOFA. The Statement of Work must start with a summary of the proposed program, including your objective, partners (if any), activities, and costs. All of the issues covered in the respective rating factors must be covered in the summary in order to receive full credit in the evaluation of the proposal. Following the summary, the Statement of Work must be organized as follows:

(1) You must describe your organization and the assignment of responsibilities for the work to be carried out under the grant (Rating Factor 1).

(2) You must describe the need and extent of the problem (Rating Factor 2).

(a) If you propose to create a new organization or institution under the capacity building funding category, you must provide evidence documenting that no existing organization or institution exists which serves the need identified in the area.

(b) If you are applying for seed support funding, you must provide evidence documenting that the area has limited capacity for the development of rural housing and economic development.

(3) You must describe the objective of your proposed program (Rating Factor 3). In addressing this submission requirement, you must:

(a) Describe the activities you propose to undertake to address the needs which have been identified, and describe the specific outcomes you expect to achieve.

(b) Include a budget in the format provided which explains the uses of both Federal and non-Federal funds and the period of performance under the grant.

(c) Include a discussion of the process by which the work accomplished with the grant will be evaluated to determine if the objectives of the grant were met. Be specific regarding the qualifications of the evaluator and the process to be used.

(4) You must identify the resources which will be leveraged by the amount of this grant's funding that you are requesting and explain their importance to the program (Rating Factor 4). To receive the maximum number of points under Rating Factor 4(a), you must provide evidence of firm commitments. The commitment can be contingent upon HUD site approval following environmental review.

(5) You must describe the extent to which your program reflects a coordinated, community based process of identifying needs and building a system to address these needs (Rating Factor 5).

(B) In addition to the Statement of Work, your application must also include an original and three copies of the items listed below:

(1) A transmittal letter;

(2) A table of contents;

(3) A signed SF-424 (application form);

(4) A budget for all funds (Federal and Non-Federal) and a breakdown of all Federal funds requested, in the format provided in the Appendix to this NOFA;

(5) Documentation of funds pledged in support of Rating Factor 4—“Leveraging Resources”;

(6) The required certifications (signed, as appropriate, and attached as an Appendix);

(7) Acknowledgment of Application Receipt form (submitted with application and returned to you as verification of timely receipt).

(8) If you are a private nonprofit organization, a copy of your organization's IRS ruling providing tax-exempt status under section 501 of the IRS Code of 1986, as amended.

(9) The attached forms specifying:

(a) Which category of funds, as described in section II(C), you are applying for (you must submit a separate application for each category applied for);

(b) Which of the five definitions of the term “rural area” set forth in section III(A)(2) of this NOFA applies to the proposed service area and accompanying documentation as indicated on the form; and

(c) Which special populations, as set forth in Rating Factor 2(b), you intend to serve.

(10) The Environmental Review Assurance.

VII. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any eligibility or selection factors. Examples of curable (correctable) technical deficiencies include your failure to submit the proper certifications or your failure to submit an application that contains an original signature by an authorized official. In each case, HUD will notify you in writing by describing the clarification or technical deficiency. HUD will notify applicants by facsimile or by return receipt requested. Applicants must submit clarifications or corrections of technical deficiencies in accordance with the information provided by HUD within 5 calendar days of the date of receipt of the HUD notification. If your deficiency is not corrected within this time period, HUD will reject your application as incomplete, and it will not be considered for funding.

VIII. Findings and Certifications

Paperwork Reduction Act Statement

The information collection requirements related to this program have been approved by the Office of Management and Budget (OMB) in accordance with the Paperwork Reduction Act of 1995 (44 U.S.C. 3501-3520). The OMB approval number, once approved, will be published in the Federal Register. An agency may not conduct or sponsor, and a person is not required to respond to, a collection of information unless the collection displays a valid control number.

Environmental Impact

A Finding of No Significant Impact with respect to the environment has been made in accordance with HUD regulations at 24 CFR part 50, implementing section 102(2)(C) of the national Environmental Policy Act of 1969 (42 U.S.C. 4332). The Finding of No Significant Impact is available for public inspection during business hours in the Office of the Rules Docket Clerk, Room 10276, Department of Housing and Urban Development, 451 Seventh Street, SW, Washington, DC 20410.

Federalism, Executive Order 13132

This notice does not have federalism implications and does not impose substantial direct compliance costs on State and local governments or preempt State law within the meaning of Executive Order 13132 (entitled “Federalism”). Specifically, the NOFA solicits applicants to build capacity at the State and local level for rural housing and economic development and to support innovative housing and economic development activities in rural areas, and does not impinge upon the relationships between the Federal government and State and local governments. As a result, the NOFA is not subject to review under the Order.

Prohibition Against Lobbying Activities

You, the applicant, are subject to the provisions of section 319 of the Department of Interior and Related Agencies Appropriation Act for Fiscal Year 1991, 31 U.S.C. 1352 (the Byrd Amendment), which prohibits recipients of Federal contracts, grants, or loans from using appropriated funds for lobbying the executive or legislative branches of the Federal Government in connection with a specific contract, grant, or loan. You are required to certify, using the certification found at Appendix A to 24 CFR part 87, that you will not, and have not, used appropriated funds for any prohibited lobbying activities. In addition, you must disclose, using Standard Form LLL, “Disclosure of Lobbying Activities,” any funds, other than Federally appropriated funds, that will be or have been used to influence Federal employees, members of Congress, and congressional staff regarding specific grants or contracts. Tribes and tribally designated housing entities (TDHEs) established by an Indian tribe as a result of the exercise of the tribe's sovereign power are excluded from coverage of the Byrd Amendment, but tribes and TDHEs established under State law are not excluded from the statute's coverage.

Section 102 of the HUD Reform Act; Documentation and Public Access Requirements

Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this NOFA as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (HUD Form 2880) submitted in connection with this NOFA. Update reports (also Form 2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register on at least a quarterly basis to notify the public of all decisions made by the Department to provide:

(i) Assistance subject to section 102(a) of the HUD Reform Act; or

(ii) Assistance that is provided through grants or cooperative agreements on a discretionary (non-formula, non-demand) basis, but that is not provided on the basis of a competition.

Section 103 HUD Reform Act

HUD's regulations implementing section 103 of the Department of Housing and Urban Development Reform Act of 1989 (42 U.S.C. 3537a), codified in 24 CFR part 4, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition must confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

IX. Authority

The Departments of Veterans Affairs and Housing and Urban Development, and Independent Agencies Appropriations Act, 2000 (Pub. L. 106-74, approved October 20, 1999).

Dated: February 11, 2000.
Joseph D'Agosta,
General Deputy Assistant Secretary for Community Planning and Development.

BILLING CODE 8320-01-P

[FR Doc. 00-3755 Filed 2-15-00; 8:45 am]

BILLING CODE 4210-29-C